DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR part 107, subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before September 29, 2003.

ADDRESS comments to: Records Center, Research and Special Programs Administration, U.S. Department of Transportation, Washington, DC 20590.

Comments should refer to the application number and be submitted to triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW., Washington, DC 20590, or at http://dms.dot.gov.

This notice of receipt of applications for new exemptions is published in accordance with part 107 of the Federal hazardous materials transportation law (49 U.S.C. 5117(b); 49 CFR 1.53(b)).

Issued in Washington, DC, on August 19, 2003.
R. Ryan Posten,
Exemptions Program Officer, Office of Hazardous Materials Exemptions and Approvals.

New Exemptions
Application | Docket No. | Applicant | Regulation(s) affected | Nature of exemption thereof
13274-N |  | Department of Defense (MTMC), Fort Eustis, VA | 49 CFR 180.509 | To authorize the filling of tank cars that are past their test dates. (Mode 1).
13275-N |  | Enviro-Safe Refrigerants, Inc., Pekin, IL | 49 CFR 173.304a(d)(3)(ii), 178.33a-8 | To authorize the transportation of certain DOT Specification 2Q containers containing liquefied petroleum gas with a charging pressure of 230 psig at 130 degrees F. (Modes 1, 2, 3, 4).
13276-N |  | Ocenco Inc., Pleasant Prairie, WI | 49 CFR 173.301(f)(5)(i) | To authorize the the transportation in commerce of 3AA cylinders pressurized to 2100 psi with oxygen, without the use of a pressure relief device. (Modes 1, 4, 5)
13280-N |  | Texaco Ovonic Hydrogen Systems, L.L.C., Rochester Hills, MI | 49 CFR 173.301(a)(1)(d) and (f) | To authorize the manufacture, mark, sale and use of a specially designed storage device consisting of a non-DOT specification cylinder similar to a DOT 3AL cylinder for use in transporting hydrogen, Division 2.1. (Modes 1, 2, 3, 4).
13281-N |  | The Dow Chemical Company, Midland, MI | 49 CFR 174.67(i)&(j) | To authorize rail cars containing certain hazardous materials to remain connected while standing without the physical presence of an unloader. (Mode 1).
13284-N |  | Sovereign Specialty Chemicals, Buffalo, NY | 49 CFR 173.242(c) & (d), 173.35, 180.352 | To authorize the transportation in commerce of residual amounts of Adhesives, Class 3 in UN designed portable tanks that are currently missing their UN name plates. (Mode 1).
13285-N |  | EP Container Corp., Cerritos, CA | 49 CFR 173.12(b)(2)(i) | To authorize the manufacture, marking, sale and use of a UN4G fiberboard box as the outer packaging for lab pack applications. (Modes 1, 2, 3).
13286-N |  | Nestle Ice Cream Company, LLC, Washington, DC | 49 CFR 173.306(a)(3)(v) | To authorize the transportation in commerce of aerosol containers that have received alternative testing method for use in transporting limited quantities of compressed gases. (Modes 1, 2, 3).

[FR Doc. 03-22096 Filed 8-28-03; 8:45 am]

BILLING CODE 4910-60-M